DEPARTMENT OF THE TREASURY

Submission for OMB Review; Comment Request

June 29, 2010.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 5, 2010 to be assured of consideration.

Alcohol and Tobacco Tax and Trade Bureau (TTB)

OMB Number: 1513-0085.

Type of Review: Extension without change of a currently approved collection.

Title: Principal Place of Business on Beer Labels. TTB REC 5130/5.

Abstract: TTB regulations permit domestic brewers who operate more than one brewery to show as their address on labels and kegs of beer, their “principal place of business” address. This label option may be used in lieu of showing the actual place of production on the label or of listing all of the brewer's locations on the label.

Respondents: Private Sector: Businesses or other for-profits.

Estimated Total Burden Hours: 1 hour.

OMB Number: 1513-0086.

Type of Review: Extension without change of a currently approved collection.

Title: Marks on Equipment and Structures (TTB REC 5130/3) and Marks and Labels on Containers of Beer (TTB REC 5130/4).

Abstract: Marks, signs, and calibrations are necessary on equipment and structures for identifying major equipment for accurate determination of tank contents, and segregation of taxpaid and nontaxpaid beer. Marks and labels on containers or beer are necessary to inform consumers of container contents, and to identify the brewer and place of production.

Respondents: Private Sector: Businesses or other for-profits.

Estimated Total Burden Hours: 1 hour.

OMB Number: 1513-0117.

Type of Review: Extension without change of a currently approved collection.

Title: Pay.gov User Agreement.

Form: TTB F 5000.31.

Abstract: The Pay.gov User Agreement will be used to identify, validate, approve, and register qualified users to allow for submission of electronic forms using the Pay.gov system.

Respondents: Private Sector: Businesses or other for-profits.

Estimated Total Burden Hours: 483 hours.

OMB Number: 1513-0125.

Type of Review: Extension without change of a currently approved collection.

Title: Distilled Spirits Bond.

Form: TTB F 5110.56.

Abstract: TTB F 5110.56 is used by proprietors of Distilled Spirits Plants (DSPs) and Alcohol Fuel Plants to file bond coverage with TTB. Using this form, these proprietors may file coverage and/or withdraw coverage for one plant or multiple plants. With this form proprietors of DSPs may also provide operations coverage for adjacent wine cellars. The bond may be secured through a surety company or it may be secured with collateral (cash, Treasury Bonds or Treasury Notes). The bond protects the revenue by ensuring adequate assets are available to pay tax liabilities.

Respondents: Private Sector: Businesses or other for-profits.

Estimated Total Burden Hours: 232 hours.

Clearance Officer: Gerald Isenberg, Alcohol and Tobacco Tax and Trade Bureau, Room 200 East, 1310 G. Street, NW., Washington, DC 20005; (202) 453-2097.

OMB Reviewer: Shagufta Ahmed, Office of Management and Budget, New Executive Office Building, Room 10235, Washington, DC 20503; (202) 395-7873.

Celina M. Elphage,
Treasury PRA Clearance Officer.

[FR Doc. 2010-16380 Filed 7-2-10; 8:45 am]

BILLING CODE 4810-31-P